DEPARTMENT OF THE INTERIOR

Bureau of Reclamation

[RR83550000, 245R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Morgan Raymond, Reclamation Law Administration Division, Bureau of Reclamation, P.O. Box 25007, Denver, Colorado 80225-0007; mraymond@usbr.gov; telephone 303-445-3382.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, P.O. Box 36900, Federal Building, 2021 4th Avenue North, Billings, Montana 59101, telephone 406-247-7752.

New contract actions:

27. Clyde Little, Boysen Unit, Pick-Sloan Missouri Basin Program, Wyoming: Consideration for renewal of long-term irrigation water service Contract No. 039E6A0093, as amended.

28. Town of Kirby, Boysen Unit, Pick-Sloan Missouri Basin Program, Wyoming: Consideration for renewal of long-term water service for supplemental municipal water for Contract No. 5-07-60-WS173.

29. Central Oklahoma Master Conservancy District, Norman Project, Oklahoma: Consideration for renewal of a water service contract for municipal and industrial uses for Contract No. 219E640007.

30. Elevation NewCo, LLC, East Bench Unit, Helena-Great Falls Division, Pick-Sloan Missouri Basin Program, Montana: Consideration for name re-assignment of Contract No. 119E670012.

Upper Colorado Basin—Interior Region 7: Bureau of Reclamation, 125 South State Street, Room 8100, Salt Lake City, Utah 84138-1102, telephone 801-524-3864.

New contract actions:

44. South Cache Water Users Association, Hyrum Project, Utah. Reclamation intends to enter into a repayment contract with the South Cache Water Users Association under the Safety of Dams Act for the reimbursable portion of the costs to repair the spillway at Hyrum Dam.

45. Strawberry Valley Project, Utah. The water users on the Strawberry Valley Project have requested to enter into a conversion contract with Reclamation under the Sale of Water for Miscellaneous Purposes Act to convert the project irrigation water to miscellaneous purposes.

46. Seedskadee Project, Wyoming. The Wyoming Water Development Commission (WWDC) desires to enter into a contract with Reclamation to acquire the use of the remaining water in Fontenelle Reservoir under Section 9 of the Reclamation Project Act of 1939. The WWDC also desires to enter into an exchange contract with Reclamation under Section 14 of the Reclamation Project Act of 1939.

47. Uncompahgre Project, Colorado River Storage Project, Colorado. The Uncompahgre Valley Water Users Association desires to enter into a renewal contract with Reclamation under Section 14 of the Reclamation Project Act of 1939 to exchange water between Taylor Park Reservoir and Blue Mesa Reservoir.

48. Navajo Gallup Project, Arizona. The Navajo Nation desires to enter into a contract with Reclamation under the Contributed Funds Act of 1922 to provide funding to increase the size of certain laterals on the Navajo Gallup Project.

49. Middle Rio Grande Project, New Mexico. The Bureau of Reclamation desires to store El Vado irrigation water in Abiquiu Reservoir under Section 14 of the Reclamation Project Act of 1939.

Lower Colorado Basin—Interior Region 8: Bureau of Reclamation, P.O. Box 61470 (Nevada Highway and Park Street), Boulder City, Nevada 89006-1470, telephone 702-293-8192.

New contract actions:

17. United States Department of the Navy, Boulder Canyon Project, All American Canal System, California: Terminate Interagency Agreement No. 6-07-30-W0351 pursuant to Article 4.

Columbia-Pacific Northwest—Interior Region 9: Bureau of Reclamation, 1150 North Curtis Road, Suite 100, Boise, Idaho 83706-1234, telephone 208-378-5344.

Completed contract actions:

7. Stanfield Irrigation District, Umatilla Basin Project, Oregon: A Short-term water service contract to provide for the use of conjunctive use water, if needed, for the purposes of pre-saturation and for such use in October to extend their irrigation season. Completed June 27, 2024.

17. J.R. Simplot Company and Micron Technology, Inc., Boise Project, Arrowrock Division, Idaho: Request to renew municipal and industrial water service contract pursuant to Section 9(c)(2) of the Reclamation Project Act of 1939. Completed June 3, 2024.

California-Great Basin—Interior Region 10: Bureau of Reclamation, 2800 Cottage Way, Sacramento, California 95825-1898, telephone 916-978-5250.

New contract actions:

39. CVP, California: Water Service Contract for fish & wildlife purposes with Contra Costa Water District and/or Los Vaqueros Reservoir Joint Powers Authority pursuant to Title XXXIV of the Act of October 30, 1992 (106 Stat. 4706).

40. Tri-Valley Water District, CVP, California: Proposed partial assignment of 150 acre-feet of Tri-Valley Water District's CVP water supply to Kaweah Delta Water Conservation District.

41. Irrigation water districts, individual irrigators, M&I and miscellaneous water users, CVP, California: Execution of Temporary Water Service Contracts for Surplus Water Under Section 215 of the Reclamation Reform Act of 1982 with various entities for volumes up to 100,000 acre-feet per year per contract.

42. CVP, California. Administrative assignments of various water service/repayment contracts.

Completed contract actions:

12. San Luis WD, Meyers Farms Family Trust, and Reclamation, CVP, California: Revision of an existing contract between San Luis WD, Meyers Farms Family Trust, and Reclamation providing for an increase in the exchange of water from 6,316 to 10,525 acre-feet annually and an increase in the storage capacity of the bank to 60,000 acre-feet. Completed June 25, 2024.

43. Meyers Farms Family Trust, CVP, California: Voluntary Full Assignment of Contract No. 07-WC-20-3529A, from Meyers Farms Family Trust to Westside Agriculture LLC. Completed July 25, 2024.

44. Meyers Farms Family Trust, CVP, California: Voluntary Full Assignment of Contract No. 9-07-20-W1608, from Meyers Farms Family Trust to Westside Agriculture LLC. Completed July 25, 2024.

45. Meyers Farms Family Trust, CVP, California: Voluntary Full Assignment of Contract No. 21-WC-20-5784, from Meyers Farms Family Trust to Westside Agriculture LLC. Completed July 25, 2024.

Christopher Beardsley,
Director, Mission Assurance and Protection Organization.

[FR Doc. 2024-25539 Filed 11-1-24; 8:45 am]

BILLING CODE 4332-90-P